DEPARTMENT OF VETERANS AFFAIRS

[OMB Control No. 2900-New (VA Form 10-0449A)]

Agency Information Collection: Emergency Submission for OMB Review; Comment Request

AGENCY: Veterans Health Administration, Department of Veterans Affairs.

ACTION: Notice.

SUMMARY: In compliance with the Paperwork Reduction Act (PRA) of 1995 (44 U.S.C. 3501-3521), this notice announces that the United States Department of Veterans Affairs (VA) has submitted to the Office of Management and Budget (OMB) the following emergency proposal for the collection of information under the provisions of the Paperwork Reduction Act (44 U.S.C. 3507(j)(1)). An emergency clearance is being requested in response to the Health Insurance Portability and Accountability Act (HIPAA) to provide National Provider Identifier numbers to non-VA health care providers seeking reimbursement claims.

DATES: Comments must be submitted on or before July 11, 2007.

ADDRESSES: Submit written comments on the collection of information through www.Regulations.gov; or to VA's OMB Desk Officer, OMB Human Resources and Housing Branch, New Executive Office Building, Room 10235, Washington, DC 20503 (202) 395-7316. Please refer to “OMB Control No. 2900-New (VA Form 10-0449A)” in any correspondence.

FOR FURTHER INFORMATION CONTACT: Denise McLamb, Records Management Service (005G2), Department of Veterans Affairs, 810 Vermont Avenue, NW., Washington, DC 20420, (202) 565-8374, fax (202) 565-7870 or e-mail denise.mclamb@mail.va.gov. Please refer to “OMB Control No. 2900-New (VA Form 10-0449A).”

SUPPLEMENTARY INFORMATION: Title: Request for National Provider Identification Number, VA Form 10-0449A.

OMB Control Number: 2900-New (VA Form 10-0449A).

Type of Review: New collection.

Abstract: Health care providers for veterans in the private sector (non-VA providers) are requesting local VA medical centers to provide National Provider Identifier (NPI) numbers for VA facilities and VA clinicians who have referred patients to them. Non-VA providers need NPI numbers in order to receive payments from Medicare or other payers.

Affected Public: Business or other for profit.

Estimated Total Annual Burden: 10 hours.

Estimated Average Burden Per Respondent: 3 minutes.

Frequency of Response: On occasion.

Estimated Number of Respondents: 200.

Dated: June 18, 2007.
By direction of the Secretary.
Denise McLamb,
Program Analyst, Records Management Service.

[FR Doc. E7-12352 Filed 6-26-07; 8:45 am]

BILLING CODE 8320-01-P